DEPARTMENT OF HOMELAND SECURITY

Federal Emergency Management Agency

[Docket ID FEMA-2015-0001]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 25, 2015.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1505) | City of Phoenix (14-09-3346P) | The Honorable Greg Stanton, Mayor, City of Phoenix, 200 West Washington Street, 11th Floor, Phoenix, AZ 85003 | Street Transportation Department, 200 West Washington Street, 5th Floor, Phoenix, AZ 85003 | May 28, 2015 | 040051
Maricopa (FEMA Docket No.: B-1474) | City of Surprise (14-09-4439P) | The Honorable Sharon Wolcott, Mayor, City of Surprise, 16000 North Civic Center Plaza, Surprise, AZ 85374 | Community Development Services, 12425 West Bell Road, Suite D-100, Surprise, AZ 85374 | April 24, 2015 | 040053
Maricopa (FEMA Docket No.: B-1474) | Unincorporated areas of Maricopa County (14-09-4439P) | The Honorable Denny Barney, Chairman, Maricopa County Board of Supervisors, 301 West Jefferson, 10th Floor, Phoenix, AZ 85003 | Maricopa County Flood Control District, 2801 West Durango Street, Phoenix, AZ 85009 | April 24, 2015 | 040037
Mojave (FEMA Docket No.: B-1505) | City of Bullhead City (14-09-3576P) | The Honorable Tom Brady, Mayor, City of Bullhead City, 2355 Trane Road, Bullhead City, AZ 86442 | Emergency Management Department, 1255 Marina Boulevard, Bullhead City, AZ 86442 | May 14, 2015 | 040125
Pinal (FEMA Docket No.: B-1474) | City of Maricopa (14-09-3623P) | The Honorable Christian Price, Mayor, City of Maricopa, 39700 West Civic Center Plaza, Maricopa, AZ 85139 | City Hall, 44624 West Garvey Avenue, Maricopa, AZ 85239 | April 27, 2015 | 040052
Yavapai (FEMA Docket No.: B-1505) | Town of Clarkdale (14-09-3026P) | The Honorable Doug Von Gausig, Mayor, Town of Clarkdale, P.O. Box 308, Clarkdale, AZ 86324 | Public Works Department, 890 Main Street, Clarkdale, AZ 86324 | May 14, 2015 | 040095
Yavapai (FEMA Docket No.: B-1505) | Unincorporated areas of Yavapai County (14-09-3026P) | The Honorable Rowle P. Simmons, Chairman, Yavapai County Board of Supervisors, 1015 Fair Street, Prescott, AZ 86305 | Yavapai County Flood Control District, 500 South Marina Street, Prescott, AZ 86303 | May 14, 2015 | 040093
California:
Contra Costa (FEMA Docket No.: B-1474) | City of Orinda (14-09-0967P) | The Honorable Sue Severson, Mayor, City of Orinda, 22 Orinda Way, Orinda, CA 94563 | Public Works Department, 22 Orinda Way, Orinda, CA 94563 | April 23, 2015 | 060722
Riverside (FEMA Docket No.: B-1505) | Unincorporated areas of Riverside County (14-09-2663P) | The Honorable Marion Ashley, Chairman, Riverside County Board of Supervisors, 4080 Lemon Street, 5th Floor, Riverside, CA 92501 | Riverside County Flood Control and Water Conservation District, 1995 Market Street, Riverside, CA 92501 | May 28, 2015 | 060245
Sacramento (FEMA Docket No.: B-1505) | City of Folsom (15-09-0527P) | The Honorable Andy Morin, Mayor, City of Folsom, 50 Natoma Street, Folsom, CA 95630 | Public Works Department, 50 Natoma Street, Folsom, CA 95630 | May 28, 2015 | 060263
San Joaquin (FEMA Docket No.: B-1474) | Unincorporated areas of San Joaquin County (14-09-2962P) | The Honorable Bob Elliott, Chairman, San Joaquin County Board of Supervisors, 44 North San Joaquin Street, Suite 627, Stockton, CA 95202 | San Joaquin County Department of Public Works, 1810 East Hazelton, Avenue, Stockton, CA 95205 | May 7, 2015 | 060299
Santa Clara (FEMA Docket No.: B-1474) | City of Santa Clara (15-09-0127P) | The Honorable Jamie L. Matthews, Mayor, City of Santa Clara, 1500 Warburton Avenue, Santa Clara, CA 95050 | Planning and Inspection Department, 1500 Warburton Avenue, Santa Clara, CA 95050 | April 16, 2015 | 060350
Solano (FEMA Docket No.: B-1474) | City of Dixon (14-09-2494P) | The Honorable Jack Batchelor, Jr., Mayor, City of Dixon, 600 East A Street, Dixon, CA 95620 | Engineering Department, 600 East A Street, Dixon, CA 95620 | April 2, 2015 | 060369
Nevada:
Douglas (FEMA Docket No.: B-1505) | Unincorporated areas of Douglas County (14-09-4114P) | The Honorable Doug N. Johnson, Chairman, Douglas County Board of Commissioners, P.O. Box 218, Minden, NV 89423 | Douglas County Public Works Department, 1615 8th Street, Minden, NV 89423 | May 28, 2015 | 320008
Washoe (FEMA Docket No.: B-1474) | Unincorporated areas of Washoe County (14-09-2693P) | The Honorable David Humke, Chairman, Washoe County Board of Commissioners, P.O. Box 11130, Reno, NV 89512 | Washoe County, Public Works Department, 1001 East 9th Street, Reno, NV 89512 | April 27, 2015 | 320019

[FR Doc. 2015-18282 Filed 7-24-15; 8:45 am]

BILLING CODE 9110-12-P